DEPARTMENT OF LABOR

Employment and Training Administration

[Docket No. NAFTA-04202]

Samsonite Corporation Tucson, AZ; Notice of Revised Determination On Reconsideration

On November 29, 2000, the Department issued a Negative Determination Regarding Eligibility to Apply for NAFTA-Transitional Adjustment Assistance (NAFTA-TAA) applicable to all workers of Samsonite Corporation located in Tucson, Arizona. The notice will soon be published in the Federal Register.

By letter of December 5, 2000, the petitioner requested administrative reconsideration of the Department's findings.

The employees of the Samsonite Corporation located in Tucson, Arizona were engaged in the cutting of fabric used in soft-sided luggage.

New findings on reconsideration show that the production of all cut fabric produced by Samsonite Corporation, Tucson, Arizona is currently being shifted to Mexico. The transfer will be completed on December 15, 2000 impacting all workers at the subject plant.

Conclusion

After careful review of the additional facts obtained on reconsideration, I conclude that increased imports of articles from Mexico like or directly competitive with cut fabrics contributed importantly to the decline in sales or production and to the total or partial separation of workers of Samsonite Corporation, Tucson, Arizona. In accordance with the provisions of the Act, I make the following certification:

“All workers of Samsonite Corporation, Tucson, Arizona who became totally or partially separated from employment on or after September 29, 1999 through two years from the date of the certification are eligible to apply for NAFTA-TAA under Section 250 of the Trade Act of 1974.”

Signed at Washington, DC this 8th day of December 2000.
Linda G. Poole,
Certifying Officer, Division of Trade Adjustment Assistance.

[FR Doc. 00-32586 Filed 12-20-00; 8:45 am]

BILLING CODE 4510-30-M